DEPARTMENT OF TRANSPORTATION

Federal Aviation Administration

14 CFR Part 39

[Docket No. FAA-2005-23319; Directorate Identifier 2005-CE-52-AD]

RIN 2120-AA64

Airworthiness Directives; Raytheon Aircraft Company 65, 90, 99, and 100 Series Airplanes

AGENCY: Federal Aviation Administration (FAA), Department of Transportation (DOT).

ACTION: Notice of proposed rulemaking (NPRM).

SUMMARY: The FAA proposes to supersede Airworthiness Directive (AD) 92-07-05, which applies to certain Raytheon Aircraft Company (Raytheon) 65, 90, 99, and 100 series airplanes. AD 92-07-05 currently requires you to inspect the rudder trim tab for proper moisture drainage provisions, and if the correct drainage provisions do not exist, prior to further flight, modify the rudder trim tab. Since we issued AD 92-07-05, FAA has received and evaluated new service information that requires the actions of AD 92-07-05 for the added serial numbers LJ-1281 through LJ-1732 for the Model C90A airplanes. Consequently, this proposed AD retains all the actions of AD 92-07-05 and adds serial numbers LJ-1281 through LJ-1732 for the Model C90A airplanes in the applicability section. We are issuing this proposed AD to prevent water accumulation in the rudder trim tab, which could result in a change in the mass properties and thus result in the lower flutter speed of the airplane. Airplane flutter could result in failure and loss of control of the airplane.

DATES: We must receive comments on this proposed AD by April 10, 2006.

ADDRESSES: Use one of the following addresses to comment on this proposed AD:

• DOT Docket Web site: Go to http://dms.dot.gov and follow the instructions for sending your comments electronically.

• Government-wide rulemaking web site: Go to http://www.regulations.gov and follow the instructions for sending your comments electronically.

• Mail: Docket Management Facility; U.S. Department of Transportation, 400 Seventh Street, SW., Nassif Building, Room PL-401, Washington, DC 20590-0001.

• Fax: 1-202-493-2251.

• Hand Delivery: Room PL-401 on the plaza level of the Nassif Building, 400 Seventh Street, SW., Washington, DC, between 9 a.m. and 5 p.m., Monday through Friday, except Federal holidays.

Contact Raytheon Aircraft Company, P.O. Box 85, Wichita, Kansas 67201-0085; telephone: (800) 429-5372 or (316) 676-3140 for the service information identified in this proposed AD.

You may examine the comments on this proposed AD in the AD docket on the Internet at http://dms.dot.gov.

FOR FURTHER INFORMATION CONTACT: Steven E. Potter, Aerospace Engineer, Wichita Aircraft Certification Office (ACO), FAA, 1801 Airport Road, Wichita, Kansas 67209; telephone: (316) 946-4124; facsimile: (316) 946-4107.

SUPPLEMENTARY INFORMATION:

Comments Invited

How do I comment on this proposed AD? We invite you to send any written relevant data, views, or arguments regarding this proposal. Send your comments to an address listed under ADDRESSES. Include the docket number, “FAA-2005-23319; Directorate Identifier 2005-CE-52-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed rulemaking. Using the search function of the DOT docket Web site, anyone can find and read the comments received into any of our dockets, including the name of the individual who sent the comment (or signed the comment on behalf of an association, business, labor union, etc.). You may review the DOT's complete Privacy Act Statement in the Federal Register published on April 11, 2000 (65 FR 19477-78) or you may visit http://dms.dot.gov.

Examining the Dockets

Where can I go to view the docket information? You may examine the docket that contains the proposal, any comments received and any final disposition on the Internet at http://dms.dot.gov, or in person at the DOT Docket Offices between 9 a.m. and 5 p.m., Monday through Friday, except Federal holidays. The Docket Office (telephone 1-800-647-5227) is located on the plaza level of the Department of Transportation NASSIF Building at the street address stated in ADDRESSES. Comments will be available in the AD docket shortly after the Docket Management Facility receives them.

Discussion

Has FAA taken any action to this point? We received and evaluated new service information on Beech (now Raytheon) Models 65-90, 65-A90, 65-A90-1, 65-A90-2, 65-A90-3, 65-A90-4, B90, C90, C90A, E90, H90, 99, 99A, A99A, B99, C99, 100, A100, and B100 airplanes that caused us to issue AD 92-07-05, Amendment 39-8201 (57 FR 8721, March 12, 1992). AD 92-07-05 currently requires the following on certain Raytheon Aircraft Company (Raytheon) Models 65-90, 65-A90, 65-A90-1, 65-A90-2, 65-A90-3, 65-A90-4, B90, C90, C90A, E90, H90, 99, 99A, A99A, B99, C99, 100, A100, and B100 airplanes:

• Inspect the rudder trim tab for proper moisture drainage provisions; and

• If the correct drainage provisions do not exist, prior to further flight, modify the rudder trim tab to provide the correct drainage provisions.

What has happened since AD 92-07-05 to initiate this proposed AD action? Since we issued AD 92-07-05, FAA has received and evaluated new service information that requires the actions of AD 92-07-05 for the added serial numbers LJ-1281 through LJ-1732 for the Model C90A airplanes.

What is the potential impact if FAA took no action? This condition, if not corrected, could result in water accumulation in the rudder trim tab, which could result in a change in the mass properties and thus result in the lower flutter speed of the airplane. Airplane flutter could result in failure and loss of control of the airplane.

Relevant Service Information

Is there service information that applies to this subject? We have reviewed:

• Raytheon Aircraft Company Service Bulletin No. SB 55-2365, Revision 2, Issued: January 1991, Revised: October 2005; and

• Beech Service Bulletin No. 2365, Revision 1, dated December 1991.

What are the provisions of this service information? The service information describes procedures for:

• Inspecting the rudder trim tab for proper moisture drainage provisions; and

• If the correct drainage provisions do not exist, prior to further flight, modifying the rudder trim tab to provide the correct drainage provisions.

FAA's Determination and Requirements of the Proposed AD

Why have we determined AD action is necessary and what would this proposed AD require? We are proposing this AD to address an unsafe condition that we determined is likely to exist or develop on other products of this same type design. The proposed AD would supersede AD 92-07-05 with a new AD that would incorporate the actions in the previously-referenced service bulletins. The proposed AD would require you to use the service information described previously to perform these actions.

Costs of Compliance

How many airplanes would this proposed AD impact? We estimate that this proposed AD affects 2,407 airplanes in the U.S. registry.

What would be the cost impact of this proposed AD on owners/operators of the affected airplanes? We estimate the following costs to do this proposed inspection:

Labor cost | Parts cost | Total cost per airplane | Total cost on U.S. operators
1 work hour × $65 = $65 | Not Applicable | $65 | 2,407 × $65 = $156,455

We estimate the following costs to do any necessary modification of the rudder trim tab to provide the correct drainage provisions that would be required based on the results of this proposed inspection. We have no way of determining the number of airplanes that may need this modification:

Labor cost | Parts cost | Total cost per airplane
1 work hour × $65 = $65 | $25 | $90

Authority for This Rulemaking

What authority does FAA have for issuing this rulemaking action? Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

Would this proposed AD impact various entities? We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 92-07-05, Amendment 39-8201, and adding the following new airworthiness directive:

Raytheon Aircraft Company: Docket No. FAA-2005-23319; Directorate Identifier 2005-CE-52-AD.

When Is the Last Date I Can Submit Comments on This Proposed AD?

(a) The Federal Aviation Administration (FAA) must receive comments on this airworthiness directive (AD) action by April 10, 2006.

What Other ADs Are Affected by This Action?

(b) This AD supersedes AD 92-07-05; Amendment 39-8201.

What Airplanes Are Affected by This AD?

(c) This AD affects the following airplane models and serial numbers that are certificated in any category:

(1) Group 1 (maintains the actions from AD 92-07-05):

Model | Serial numbers
(i) 65-90, 65-A90, B90, C90, and C90A | LJ-1 through LJ-1280.
(ii) E90 | LW-1 through LW-347.
(iii) 99, 99A, A99, A99A, B99, and C99 | U-1 through U-136 and U-146 through U-239.
(iv) 100 and A100 | B1 through B-94, B-100 through B-204, and B-206 through B247.
(v) B100 | BE-1 through BE-137.
(vi) 65-A90-1 (U-21A, JU-21A, RU-21D, RU-21H, RU-21A, U-21G) | LM-1 through LM-141.
(vii) 65-A90-2 (RU-21B) | LS-1, LS-2, and LS-3.
(viii) 65-A90-3 (RU-21C) | LT-1 and LT-2
(ix) 65-A90-4 (RU-21EA, U-21H, RU-21H) | LU-1 through LU-16.
(x) H90 (T-44A) | LL-1 through LL-61
(xi) 99A (FACH) | U-137 through U-145.
(xii) A100 (U-21F) | B95 through B-99.

(2) Group 2: Model C90A, serial numbers LJ-1281 through LJ-1732.

What Is the Unsafe Condition Presented in This AD?

(d) This AD results from receiving and evaluating new service information that requires the actions of AD 92-07-05 for the added serial numbers LJ-1281 through LJ-1732 for the Model C90A airplanes. The actions specified in this AD are intended to prevent water accumulation in the rudder trim tab, which could result in a change in the mass properties and thus result in the lower flutter speed of the airplane. Airplane flutter could result in failure and loss of control of the airplane.

What Must I Do To Address This Problem?

(e) To address this problem, you must do the following:

Actions | Compliance | Procedures
(1) For Group 1 Airplanes: Inspect the rudder trim tab for proper moisture drainage provisions | Within 150 hours time-in-service (TIS) after April 30, 1992 (the effective date of AD 92-07-05), unless already done | Follow Beech Service Bulletin No. 2365, Revision 1, dated December 1991.
(2) For Group 1 Airplanes: If the correct drainage provisions do not exist, prior to further flight, modify the rudder trim tab | Before further flight after the inspection required by paragraph (e)(1) of this AD | Follow Beech Service Bulletin No. 2365, Revision 1, dated December 1991.
(3) For Group 2 Airplanes: Inspect the rudder trim tab for proper moisture drainage provisions | Within 150 hours time-in-service (TIS) after the effective date of this AD, unless already done | Follow Raytheon Aircraft Company Service Bulletin No. SB 55-2365, Revision 2, Issued: January 1991, Revised: October 2005.
(4) For Group 2 Airplanes: If the correct drainage provisions do not exist, prior to further flight, modify the rudder trim tab | Before further flight after the inspection required by paragraph (e)(3) of this AD | Follow Raytheon Aircraft Company Service Bulletin No. SB 55-2365, Revision 2, Issued: January 1991, Revised: October 2005.

May I Request an Alternative Method of Compliance?

(f) The Manager, Wichita Aircraft Certification Office (ACO), FAA, has the authority to approve alternative methods of compliance (AMOCs) for this AD, if requested using the procedures found in 14 CFR 39.19.

(i) For information on any already approved AMOCs or for information pertaining to this AD, contact Steven E. Potter, Aerospace Engineer, Wichita ACO, FAA, 1801 Airport Road, Wichita, Kansas 67209; telephone: (316) 946-4124; facsimile: (316) 946-4107.

(ii) AMOCs approved for AD 92-07-05 are not approved for this AD.

May I Get Copies of the Documents Referenced in This AD?

(g) To get copies of the documents referenced in this AD, contact Raytheon Aircraft Company, P.O. Box 85, Wichita, Kansas 67201-0085; telephone: (800) 429-5372 or (316) 676-3140. To view the AD docket, go to the Docket Management Facility; U.S. Department of Transportation, 400 Seventh Street, SW., Nassif Building, Room PL-401, Washington, DC, or on the Internet at http://dms.dot.gov. The docket number is Docket No. FAA-2005-23319; Directorate Identifier 2005-CE-52-AD.

Issued in Kansas City, Missouri, on January 31, 2006.
John R. Colomy,
Acting Manager, Small Airplane Directorate, Aircraft Certification Service.

[FR Doc. E6-1562 Filed 2-3-06; 8:45 am]

BILLING CODE 4910-13-P